DEPARTMENT OF JUSTICE

Notice of Lodging of a Consent Decree Pursuant to the Clean Water Act

Notice is hereby given that a proposed Consent Decree in United States of America v. Alexander City, Alabama, Russell Corporation, Avondale Mills, Inc., and the State of Alabama, Civ. No. 02-W-428-E, was lodged on April 15, 2002, with the United States District Court for the Middle District of Alabama.

The proposed Consent Decree would resolve certain claims under sections 301 and 402 of the Clean Water Act, 333 U.S.C. 1251, et seq., against Alexander City, Alabama (“the City”), Russell Corporation (“Russell”) and Avondale Mills, Inc. (“Avondale”) (collectively “Settling Defendants”), through the payment of a civil penalty and the performance of a Supplemental Environmental Project (“SEP”). The United States alleges that the City is liable as a person who has discharged a pollutant from a point source to navigable waters of the United States in excess of permit limitations. The United States alleges that Russell and Avondale are liable as persons who caused interference with publicly-owned treatment works and pass through of untreated contaminants to navigable waters of the United States. The United States further alleges that the City failed to develop and enforce specific effluent limits of Industrial Users that were necessary to ensure renewed and continued compliance with the City's National Pollutant Discharge Elimination System (“NPDES”) permit.

The proposed Consent Decree would resolve the liability of the Settling Defendants for the violations alleged in the complaint filed in this matter. To resolve these claims, the Settling Defendants will each pay a civil penalty of $10,000, and collectively will perform a land acquisition SEP valued at $197,000. Claims against the State of Alabama, which is named as a defendant solely pursuant to section 309(e) of the Clean Water Act, 33 U.S.C. 1319(e), are not resolved by the proposed Consent Decree.

The Department of Justice will receive comments relating to the proposed Consent Decree for a period of thirty (30) days from the date of this publication. Comments should be addressed to the Assistant Attorney General, Environment and Natural Resources Division, P.O. Box 7611, U.S. Department of Justice, Washington, D.C. 20044 and should refer to United States v. Alexander City, Alabama, et al., DJ No. 90-5-1-1-06993.

The proposed Consent Decree may be examined at the office of the United States Attorney for the Middle District of Alabama, One Court Square, Suite 201, Montgomery, AL 36104, and at the Region 4 Office of the Environmental Protection Agency, Atlanta Federal Center 61 Forsyth Street, SW, Atlanta GA 30303. A copy of the proposed Consent Decree may also be obtained by faxing a request to Tonia Fleetwood, Department of Justice Consent Decree Library, fax no. (202) 616-6584; phone confirmation no. (202) 514-1547. There is a charge for the copy (25 cents per page reproduction cost). Upon requesting a copy, please mail a check payable to the “US Treasury”, in the amount of $10.75, to: Consent Decree Library, U.S. Department of Justice, P.O. Box 7611, Washington, DC 20044-7611. The check should refer to United States v. Alexander City, et al, DJ No. 90-5-1-1-06993.

Ellen Mahan,
Assistant Section Chief, Environmental Enforcement Section, Environment and Natural Resources Division.

[FR Doc. 02-10816 Filed 5-1-02; 8:45 am]

BILLING CODE 4410-15-M